DEPARTMENT OF TRANSPORTATION

Federal Aviation Administration

Twenty-Fourth Meeting: Special Committee (214) Standards for Air Traffic Data Communication Services (Joint With EUROCAE WG-78)

AGENCY: Federal Aviation Administration (FAA), U.S. Department of Transportation (DOT).

ACTION: Notice of Twenty-Fourth Special Committee 214 Meeting.

SUMMARY: The FAA is issuing this notice to advise the public of the twenty-fourth Special Committee 214 meeting.

DATES: The meeting will be held December 7th-10th from 9:00 a.m.-5:00 p.m.

ADDRESSES: The meeting will be held at AIRBUS Group, 12, rue Pasteur, 92150 Suresnes, France, Tel: (202) 330-0663.

FOR FURTHER INFORMATION CONTACT: The RTCA Secretariat, 1150 18th Street NW., Suite 910, Washington, DC, 20036, or by telephone at (202) 833-9339, fax at (202) 833-9434, or Web site at http://www.rtca.org or Sophie Bousquet, Program Director, RTCA, Inc., sbousquet@rtca.org, (202) 330-0663.

SUPPLEMENTARY INFORMATION: Pursuant to section 10(a)(2) of the Federal Advisory Committee Act (Pub. L. 92-463, 5 U.S.C., App.), notice is hereby given for a meeting of Special Committee 214. The agenda will include the following:

Monday, December 7, 2015 (9:00 a.m.-12:30 p.m.) Plenary Session (Day 1)

1. Welcome/Introduction/Administrative Remarks

2. Approval of the Agenda of Plenary 24

3. Approval of the Minutes of Plenary 23 and Review Action Item Status

4. Coordination Status with ICAO

5. Status of FRAC/Open Consultation of B2 Rev A Standards

6. Progress status of VDL2 standards

7. Review of Position Papers and Contributions

Tuesday-Wednesday, December 8-9, 2015 (9:00 a.m.-5:00 p.m.) (Days 2-3)

1. Sub-Group Sessions

Thursday, December 10, 2015 (9:00 a.m.-5:00 p.m.) Plenary Session (Day 4)

1. Sub-Group Reports—Comments status and resolution summary

2. Approval of Rev A of Baseline 2 documents for submission to RTCA PMC and EUROCAE Council for publication

3. Organization and status of EUROCAE WG-78 and RTCA SC-214 after Plenary 24

4. Any Other Business

5. Adjourn

Attendance is open to the interested public but limited to space availability. With the approval of the chairman, members of the public may present oral statements at the meeting. Persons wishing to present statements or obtain information should contact the person listed in the FOR FURTHER INFORMATION CONTACT section. Contact Francoise Bachellerie at francoise.bachellerie@airbus.com and copy Jerome Condis at Jerome.condis@airbus.com no later than November 13, 2015 to attend the meeting. Provide your full name; organization and title; citizenship; date and place of birth; and Passport Number. Members of the public may present a written statement to the committee at any time. Issued in Washington, DC, on September 17, 2015.

Latasha Robinson,
Management & Program Analyst, Next Generation, Enterprise Support Services Division, Federal Aviation Administration.

[FR Doc. 2015-24011 Filed 9-21-15; 8:45 am]

BILLING CODE 4910-13-P